OFFICE OF THE UNITED STATES TRADE REPRESENTATIVE

[Docket No. WTO/D-213]

WTO Dispute Settlement Proceedings Regarding Countervailing Duties on Certain Corrosion-Resistant Carbon Steel Flat products From Germany

AGENCY: Office of the United States Trade Representative.

ACTION: Notice; request for comments.

SUMMARY: The Office of the United States Trade Representative (USTR) is providing notice that on August 8, 2001, the European Communities (EC) requested the establishment of a dispute settlement panel under the Marrakesh Agreement Establishing the World Trade Organization (WTO Agreement). The request relates to countervailing duties imposed by the United States Department of Commerce (Commerce) with respect to the countervailing duty order on certain corrosion-resistant carbon steel flat products from Germany (corrosion-resistant steel order), and Commerce's decision not to revoke that order. The EC alleges that the decision not to revoke the order, as well as certain aspect of Commerce's sunset review procedure which led to the decision, are inconsistent with Articles 10, 11.9, 21 (notably paragraphs 1 and 3), and 32.5 of the WTO Agreement on Subsidies and Countervailing Measures (SCM Agreement), and Article XVI:4 of the WTO Agreement. USTR invites written comments from the public concerning the issues raised in this dispute.

DATES: Although USTR will accept any comments received during the course of the dispute settlement proceedings, comments should be submitted on or before October 12, 2001, to be assured of timely consideration by USTR.

ADDRESSES: Submit comments to Sandy McKinzy, Monitoring and Enforcement Unit, Office of the General Counsel, Room 122, Office of the United States Trade Representative, 600 17th Street, NW., Washington, DC, 20508, Attn: Corrosion-Resistant Steel Dispute. Telephone: (202) 395-3582.

FOR FURTHER INFORMATION CONTACT: William D. Hunter, Associate General Counsel, Office of the United States Trade Representative, 600 17th Street, NW., Washington, DC, 20508. Telephone: (202) 395-3582.

SUPPLEMENTARY INFORMATION: Section 127(b) of the Uruguay Round Agreements Act (URAA) (19 U.S.C. 3537(b)(1)) requires that notice and opportunity for comment be provided after the United States receives a request for the establishment of a WTO dispute settlement panel. Consistent with this obligation, USTR is providing notice that the EC has requested the establishment of a dispute settlement panel pursuant to the WTO Dispute Settlement Understanding. Such panel, which would hold its meetings in Geneva, Switzerland, would be expected to issue a report on its findings and recommendations within six to nine months after it is established.

Major Issues Raised by the EC

In its sunset review of the corrosion-resistant steel order, Commerce determined that revocation of the order would be likely to lead to continuation or recurrence of countervailable subsidies at a rate of 0.54 ad valorem. The EC alleges that this rate is below the 1 percent de minimis standard applicable to countervailing duty investigations of Article 11.9 of the SCM Agreement, which, the EC asserts, applies to sunset reviews. Accordingly, the EC alleges that Commerce's decision not to revoke the order was inconsistent with Article 11.9. In addition, the EC alleges that because Commerce did not demonstrate that subsidies would increase above the de minimis level if the order were revoked, Commerce acted inconsistently with Article 21.3 of the SCM Agreement.

The EC also alleges that certain provisions of U.S. countervailing duty law authorizing the self-initiation of sunset reviews by Commerce are inconsistent with Article 21.3. Specifically, the EC refers to section 751(c) of the Tariff Act of 1930, as amended, 19 U.S.C. 1675(c), and section 351.218 of Commerce's regulations, 19 C.F.R. 351.218. According to the EC, investigating authorities may self-initiate sunset reviews only on the basis of a similar level of positive evidence as would be required if a domestic industry requested the initiation of a sunset review.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked BUSINESS CONFIDENTIAL in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as SUBMITTED IN CONFIDENCE in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room: Room 101, Office of the United States Trade Representative, 600 17th Street, NW., Washington, DC 20508. The public file will include non-confidential comments received by USTR from the public with respect to the dispute; if a dispute settlement panel is convened, the U.S. submissions to that panel, the submissions, or non-confidential summaries of submissions to the panel received from other participants in the dispute, as well as the report of the panel; and, if applicable, the report of the Appellate Body. An appointment to review the public file (Docket WTO/D-213, Corrosion-Resistent Steel Dispute) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 01-22825 Filed 9-11-01 8:45 am]

BILLING CODE 3190-01-M